DEPARTMENT OF COMMERCE

International Trade Administration

[C-533-872]

Finished Carbon Steel Flanges From India: Final Results of Countervailing Duty Administrative Review and Partial Rescission, 2018

AGENCY: Enforcement and Compliance, International Trade Administration, Department of Commerce.

SUMMARY: The Department of Commerce (Commerce) determines that countervailable subsidies are being provided to producers and exporters of finished carbon steel flanges (steel flanges) from India during the period of review, January 1, 2018, through December 31, 2018.

DATES: Applicable April 27, 2021.

FOR FURTHER INFORMATION CONTACT: Tyler Weinhold or John McGowan, AD/CVD Operations, Office VI, Enforcement and Compliance, International Trade Administration, U.S. Department of Commerce, 1401 Constitution Avenue NW, Washington, DC 20230; telephone: (202) 482-1121 and (202) 482-3019, respectively.

SUPPLEMENTARY INFORMATION:

Background

Commerce published the Preliminary Results of this administrative review on December 10, 2020. For a history of events that occurred since the Preliminary Results, see the Issues and Decision Memorandum.¹ On March 23, 2021, Commerce extended the deadline for the final results of this administrative review. The revised deadline for the final results of this administrative review is now April 30, 2021.² Commerce conducted this review in accordance with section 751(a) of the Tariff Act of 1930, as amended (the Act).

¹ See Memorandum, “Issues and Decision Memorandum for the Final Results of the 2018 Countervailing Duty Administrative Review of Finished Carbon Steel Flanges from India,” dated concurrently with this determination and hereby adopted by this notice (Issues and Decision Memorandum).

² See Memorandum, “Finished Carbon Steel Flanges from India: Extension of Deadline for Final Results of Countervailing Duty Administrative Review; 01/01/2018-12/31/2018,” dated March 23, 2021.

Scope of the Order

The merchandise covered by the order is steel flanges. For a complete description of the scope of the order, see the Issues and Decision Memorandum.

Analysis of Comments Received

All issues raised in interested parties' briefs are addressed in the Issues and Decision Memorandum accompanying this notice. A list of the issues raised by interested parties, and to which Commerce responded in the Issues and Decision Memorandum, is provided in Appendix I to this notice. The Issues and Decision Memorandum is a public document and is on file electronically via Enforcement and Compliance's Antidumping and Countervailing Duty Centralized Electronic Service System (ACCESS). ACCESS is available to registered users at https://access.trade.gov. In addition, a complete version of the Issues and Decision Memorandum can be accessed directly at http://enforcement.trade.gov/frn/.

Changes Since the Preliminary Results

Based on comments received and record evidence, Commerce made certain changes to the Preliminary Results. These changes are explained in the Issues and Decision Memorandum.

Companies Not Selected for Individual Review

For the companies not selected for individual review, because the rates calculated for Norma (India) Ltd. (Norma) and R.N. Gupta & Co. Ltd (RNG) are above de minimis and not based entirely on facts available, we applied a subsidy rate based on a weighted-average of the subsidy rates calculated for Norma and RNG using publicly ranged sales data submitted by the respondents.³ This is consistent with the methodology that we would use in an investigation to establish the all-others rate, pursuant to section 705(c)(5)(A) of the Act.

³ See Memorandum, “Countervailing Duty Administrative Review: Finished Carbon Steel Flanges from India; 2018 Final Results Calculation for the `All-Others' Rate,” dated concurrently with this notice.

Partial Rescission

In the Preliminary Results, we stated that we intended to rescind this review with respect to Bebitz U.S.A., Inc. and Silbo Industries, Inc.⁴ We received no comments on this issue. Therefore, we are rescinding this administrative review with respect to Bebitz U.S.A., Inc. and Silbo Industries, Inc.

⁴ See Preliminary Results, and accompanying Preliminary Decision Memorandum at 3.

Final Results of Administrative Review

We determine that, for the period of January 1, 2018, through December 31, 2018, the following total estimated net countervailable subsidy rates exist:

⁵ We found that the following companies are cross-owned in accordance with 19 CFR 351.526(B)(6)(vi): Norma (India) Ltd., USK Export Private Limited (USK), Uma Shanker Khandelwal and Co., (UMA) and Bansidhar Chiranjilal (BCL). See Preliminary Results and accompanying Preliminary Decision Memorandum at 8.

⁶ See Appendix II.

Company | Subsidy rate (percent ad valorem)
Norma (India) Ltd ⁵ | 5.61
R.N. Gupta & Co. Ltd | 5.04
Companies Not Selected for Individual Examination ⁶ | 5.32

Disclosure

Commerce intends to disclose the calculations performed for these final results of review within five days of the date of publication of this notice in the Federal Register, in accordance with 19 CFR 351.224(b).

Assessment Rate

Pursuant to 19 CFR 351.212(b)(2), Commerce will determine, and U.S. Customs and Border Protection (CBP) shall assess, countervailing duties on all appropriate entries of subject merchandise in accordance with the final results of this review, for the above-listed companies at the applicable ad valorem assessment rates listed. Consistent with its recent notice,⁷ Commerce intends to issue assessment instructions, including assessment instructions for those companies for which we rescinded the review,⁸ to CBP no earlier than 35 days after the date of publication of the final results of this review in the Federal Register. If a timely summons is filed at the U.S. Court of International Trade, the assessment instructions will direct CBP not to liquidate relevant entries until the time for parties to file a request for a statutory injunction has expired (i.e., within 90 days of publication).

⁷ See Notice of Discontinuation of Policy to Issue Liquidation Instructions After 15 Days in Applicable Antidumping and Countervailing Duty Administrative Proceedings, 86 FR 3995 (January 15, 2021).

⁸ See Preliminary Results.

Cash Deposit Rates

In accordance with section 751(a)(1) of the Act, Commerce intends to instruct CBP to collect cash deposits of estimated countervailing duties in the amounts shown for each of the respective companies listed above. For all non-reviewed firms, we will instruct CBP to continue to collect cash deposits of estimated countervailing duties at the most recent company-specific or all-others rate applicable to the company, as appropriate. These cash deposits, when imposed, shall remain in effect until further notice.

Administrative Protective Order

This notice also serves as a reminder to parties subject to administrative protective order (APO) of their responsibility concerning the destruction of proprietary information disclosed under APO in accordance with 19 CFR 351.305(a)(3). Timely written notification of the return or destruction of APO materials or conversion to judicial protective order is hereby requested. Failure to comply with the regulations and terms of an APO is a sanctionable violation.

Notification to Interested Parties

These final results are issued and published in accordance with sections 751(a)(1) and 777(i)(1) of the Act and 19 CFR 351.221(b)(5).

Date: April 20, 2021.
Christian Marsh,
Acting Assistant Secretary for Enforcement and Compliance.

Appendix I

List of Topics Discussed in the Issues and Decision Memorandum

I. Summary

II. Background

III. Partial Rescission

IV. Changes Since the Preliminary Results

V. Scope of the Order

VI. Period of Review

VII. Subsidies Valuation Information

VIII. Analysis of Programs

IX. Analysis of Comments

X. Recommendation

Appendix II

Companies Not Selected for Individual Examination

1. Adinath International

2. Allena Group

3. Alloyed Steel

4. Bebitz Flanges Works Private Limited

5. C.D. Industries

6. CHW Forge

7. CHW Forge Pvt. Ltd.

8. Citizen Metal Depot

9. Corum Flange

10. DN Forge Industries

11. Echjay Forgings Limited

12. Falcon Valves and Flanges Private Limited

13. Heubach International

14. Hindon Forge Pvt. Ltd.

15. Jai Auto Pvt. Ltd.

16. Kinnari Steel Corporation

17. Mascot Metal Manufacturers

18. M F Rings and Bearing Races Ltd.

19. OM Exports

20. Punjab Steel Works (PSW)

21. Raaj Sagar Steel

22. Ravi Ratan Metal Industries

23. R. D. Forge

24. Rolex Fittings India Pvt. Ltd.

25. Rollwell Forge Pvt. Ltd.

26. SHM (ShinHeung Machinery)

27. Siddhagiri Metal & Tubes

28. Sizer India

29. Steel Shape India

30. Sudhir Forgings Pvt. Ltd.

31. Tirupati Forge

[FR Doc. 2021-08712 Filed 4-26-21; 8:45 am]

BILLING CODE 3510-DS-P